ENVIRONMENTAL PROTECTION AGENCY

[EPA-HQ-OPPT-2013-0677; FRL-9926-44]

Receipt of Test Data Under the Toxic Substances Control Act

AGENCY: Environmental Protection Agency (EPA).

ACTION: Notice; correction.

SUMMARY: EPA issued a notice in the Federal Register of April 14, 2015, announcing its receipt of test data submitted pursuant to a test rule issued by EPA under the Toxic Substances Control Act (TSCA). As required by TSCA, this document identifies each chemical substance and/or mixture for which test data have been received; the uses or intended uses of such chemical substance and/or mixture; and describes the nature of the test data received. Under Unit IV.A.3. and B.3. Test Data Received; information was inadvertently omitted, and this document corrects the omissions.

FOR FURTHER INFORMATION CONTACT: For technical information contact: Kathy Calvo, Chemical Control Division (7405M), Office of Pollution Prevention and Toxics, Environmental Protection Agency, 1200 Pennsylvania Ave. NW., Washington, DC 20460-0001; telephone number: (202) 564-8089; email address: calvo.kathy@epa.gov.

For general information contact: The TSCA-Hotline, ABVI-Goodwill, 422 South Clinton Ave., Rochester, NY 14620; telephone number: (202) 554-1404; email address: TSCA-Hotline@epa.gov.

SUPPLEMENTARY INFORMATION:

What does this correction do?

FR Doc. 2015-08588, published in the Federal Register of April 14, 2015, (80 FR 19982) (FRL-9925-21) is corrected to read as follows:

1. On page 19982 under Unit IV. Test Data Received A.3., after the sentence: “Aquatic Toxicity. The docket ID number assigned to this data is EPA-HQ-OPPT-2007-0531-0832.” Add the sentence:

Ready Biodegradation. The docket ID number assigned to this data is EPA-HQ-OPPT-2007-0531.

2. On page 19982 under Unit IV. Test Data Received B.3., is corrected to read as follows:

Aquatic Toxicity (Algae). The docket ID number assigned to this data is EPA-HQ-OPPT-2009-0112.

Mammalian Toxicity. Repeat Dose Reproductive/Developmental Study with Screening Test. The docket ID number assigned to this data is EPA-HQ-OPPT-2009-0112.

Authority: 15 U.S.C. 2601 et seq.

Dated: April 23, 2015.
Maria J. Doa,
Director, Chemical Control Division, Office of Pollution Prevention and Toxics.

[FR Doc. 2015-10142 Filed 4-30-15; 8:45 am]

BILLING CODE 6560-50-P